DEPARTMENT OF TRANSPORTATION

Federal Aviation Administration

14 CFR Part 71

[Docket No. FAA-2022-1472; Airspace Docket No. 22-AWA-8]

RIN 2120-AA66

Amendment of Class C Airspace; Manchester, NH

AGENCY: Federal Aviation Administration (FAA), DOT.

ACTION: Final rule; correction.

SUMMARY: The FAA is correcting a final rule published in the Federal Register on December 6, 2022, that amended the Manchester, NH Class C airspace description to update the Manchester Airport name and airport reference point (ARP) geographic coordinates. In the description of the Class C airspace area, the final rule contained an error in the longitude coordinate of the ARP. This action makes an editorial correction to insert the correct longitude coordinate in references to the ARP.

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a final rule for Docket No. FAA-2022-1472 in the Federal Register (87 FR 74505; December 6, 2022), to update the ARP for the Manchester, NH airport. Subsequent to publication, the FAA determined that the ARP longitude geographic coordinate was in error. This rule corrects that error by changing the references from “long. 71°45′39″ W” to “long. 71°26′09″ W”. This is an editorial change only to match the FAA's National Airspace System Resource database information.

Class C airspace areas are published in paragraph 4000 of FAA Order 7400.11G, dated August 19, 2022, and effective September 15, 2022, which is incorporated by reference in 14 CFR 71.1. The Class C airspace listed in this document will be published subsequently in FAA Order JO 7400.11.

Correction to Final Rule

The reference to the Manchester ARP longitude coordinate published in the Federal Register of December 6, 2022 (87 FR 74505), FR Doc. 2022-26458, is corrected as follows:

1. On page 74506, in column 2, under the heading “The Rule” revise “The “Manchester Airport” name is changed to “Manchester Boston Regional Airport”, to match the Airport Master Record database, and the ARP geographic coordinates are updated from “lat. 42°56′00″ N, long. 71°26′16″ W” to “at. 42°55′58″ N, long. 71°45′39″ W” to read “The “Manchester Airport” name is changed to “Manchester Boston Regional Airport”, to match the Airport Master Record database, and the ARP geographic coordinates are updated from “lat. 42°56′00″ N, long. 71°26′16″ W” to “lat. 42°55′58″ N, long. 71°26′09″ W.”

2. On page 74506, in column 3, under the heading “ANE NH C Manchester, NH [Amended]” revise “Manchester Boston Regional Airport, NH (Lat. 42°55′58″ N, long. 71°45′39″ W)” to read “Manchester Boston Regional Airport, NH (Lat. 42°55′58″ N, long. 71°26′09″ W)”.

Issued in Washington, DC, on December 19, 2022.
Scott M. Rosenbloom,
Manager, Airspace Rules and Regulations.

[FR Doc. 2022-27928 Filed 12-22-22; 8:45 am]

BILLING CODE 4910-13-P